FEDERAL COMMUNICATIONS COMMISSION

Public Information Collection(s) Requirement Submitted to OMB for Emergency Review and Approval

February 21, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 3, 2003. If you anticipate that you will be submitting comments, but find it difficult to do so within the period of time allowed by this notice, you should advise the contacts listed below as soon as possible.

ADDRESSES: Direct all comments to Kim A. Johnson, Office of Management and Budget, Room 10236 NEOB, Washington, DC 20503, (202) 395-7232 or via Internet at Kim_A._Johnson@omb.eop.gov, and Les Smith, Federal Communications Commission, Room 1-A804, 445 12th Street, SW., Washington, DC 20554 or via Internet to lesmith@fcc.gov.

FOR FURTHER INFORMATION CONTACT: For additional information or copies of the information collections contact Les Smith at (202) 418-0217 or via Internet at lesmith@fcc.gov.

SUPPLEMENTARY INFORMATION: The Commission has requested emergency OMB review of this collection with an approval by March 14, 2003.

OMB Control Number: 3060-0055.

Type of Review: Revision of a currently approved collection.

Title: Application for Cable Television Relay Service Station Authorization, FCC Form 327.

Form Number: FCC 327.

Respondents: Business or other for-profit entities; Not-for-profit institutions.

Number of Respondents: 814.

Estimated Time per Response: 3.2 hours.

Frequency of Response: On occasion, annual, and five-year reporting requirements.

Total Annual Burden: 2,605 hours.

Total Annual Cost: $179,000.

Needs and Uses: On May 22, 2002, the FCC adopted a Report and Order (R&O), CS Docket No. 99-250, FCC 02-149, which expanded the class of those eligible to hold Cable Television Relay Service (CARS) licenses to all Multichannel Video Programming Distributors (MVPDs) and, thus, the reporting requirement is imposed on an additional group of persons. Previously, only cable systems and wireless cable systems (MDS and MMDS) were eligible for CARS licenses. CARS is principally a video transmission service used for intermediate links in a distribution network. FCC Form 327 consists of multiple schedules and exhibits, depending upon the specific action for which it is filed—initial applications are the most complete and renewal applications are the briefest. FCC Form 327 is the application for CARS microwave radio license.

Federal Communications Commission.
Marlene H. Dortch,
Secretary.

[FR Doc. 03-5058 Filed 3-3-03; 8:45 am]

BILLING CODE 6712-01-P